SOCIAL SECURITY ADMINISTRATION

[Docket No: SSA-2017-0024]

Agency Information Collection Activities: Proposed Request and Comment Request

The Social Security Administration (SSA) publishes a list of information collection packages requiring clearance by the Office of Management and Budget (OMB) in compliance with Public Law 104-13, the Paperwork Reduction Act of 1995, effective October 1, 1995. This notice includes a new information request and revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget

Attn: Desk Officer for SSA

Fax: 202-395-6974

Email address: OIRA_Submission@omb.eop.gov

(SSA)

Social Security Administration, OLCA, Attn: Reports Clearance Director, 3100 West High Rise, 6401 Security Blvd., Baltimore, MD 21235.

Fax: 410-966-2830.

Email address: OR.Reports.Clearance@ssa.gov.

Or you may submit your comments online through www.regulations.gov, referencing Docket ID Number [SSA-2017-0024].

I. The information collections below are pending at SSA. SSA will submit them to OMB within 60 days from the date of this notice. To be sure we consider your comments, we must receive them no later than July 11, 2017. Individuals can obtain copies of the collection instruments by writing to the above email address.

1. BBA 826

PRA 60-day Federal Register Notice (first notice)

myWageReport—0960-NEW.

Overview

SSA is creating a new electronic wage reporting application, myWageReport.

Background

Social Security Disability Insurance (SSDI) beneficiaries receive payments based on their ability to engage in substantial gainful activity because of a physical or mental condition. SSA requires SSDI beneficiaries or their representative payees to report when beneficiaries return to work, when their amount of work increases, or when their earnings increase. Currently, SSDI beneficiaries can call our 800 number; visit a local field office (FO); or mail paystubs and earnings to their local field offices to report this information.

Section 826 of the Bipartisan Budget Act (BBA) of 2015, Public Law 114-74, requires SSA to offer SSDI beneficiaries the same electronic/automated receipt wage reporting methods available to Supplemental Security Income recipients, including the Internet. Accordingly, we are creating a new Internet reporting system for this purpose, myWageReport.

myWageReport

The myWageReport application will enable SSDI beneficiaries and representative payees to report earnings electronically. It will also generate a receipt for the beneficiary and/or representative payee, thus providing confirmation that SSA has received the earnings report.

SSA will screen the information submitted through the myWageReport application and will determine if we need additional employment information. If so, agency personnel will reach out to beneficiaries or their representative payees and will use Form SSA-821, Work Activity Report (0960-0059), to collect the additional required information.

The respondents for this collection are SSDI recipients or their representative payees.

Type of Request: New Information Collection Request.

Modality of completion | Number of respondents | Frequency of response (per annum) | Average burden per response (minutes) | Estimated total annual burden (hours)
myWageReporting | 54,000 | 1 | 7 | 6,300

2. Marital Relationship Questionnaire—20 CFR 416.1826—0960-0460. SSA uses Form SSA-4178, Marital Relationship Questionnaire, to determine if unrelated individuals of the opposite sex who live together are misrepresenting themselves as husband and wife. SSA needs this information to determine whether we are making correct payments to couples and individuals applying for or currently receiving Supplemental Security Income (SSI) payments. The respondents are applicants for and recipients of SSI payments.

Type of Request: Revision of an OMB-approved information collection.

Modality of completion | Number of respondents | Frequency of response | Average burden per response (minutes) | Estimated total annual burden (hours)
MSSICS | 1,275 | 1 | 5 | 106
SSA-4178 | 3,825 | 1 | 5 | 319
Totals | 5,100 |  |  | 425

3. Social Security Benefits Application—20 CFR 404.310-404.311, 404.315-404.322, 404.330-404.333, 404.601-404.603, and 404.1501-404.1512—0960-0618. Title II of the Social Security Act (Act) provides retirement, survivors, and disability benefits to members of the public who meet the required eligibility criteria and file the appropriate application. This collection comprises the various application methods for each type of benefits. SSA uses the information we gather through the multiple information collection tools in this information collection request to determine applicants' eligibility for specific Social Security benefits, as well as the amount of the benefits. Individuals filing for disability benefits can, and in some instances SSA may require them to, file applications under both Title II, Social Security disability benefits, and Title XVI, SSI payments. We refer to disability applications filed under both titles as “concurrent applications.” This collection comprises the various application methods for each type of benefits. These methods include the following modalities: Paper forms (Forms SSA-1, SSA-2, and SSA-16); Modernized Claims System (MCS) screens for in-person interview applications; and Internet-based iClaim and iAppointment applications. SSA uses the information we collect through these modalities to determine: (1) The applicants' eligibility for the above-mentioned Social Security benefits and (2) the amount of the benefits. The respondents are applicants for retirement, survivors, and disability benefits under Title II of the Act.

Type of Request: Revision of an OMB-approved information collection.

Modality of completion | Number of respondents | Frequency of response | Average burden per response (minutes) | Estimated total annual burden (hours)
SSA
Paper version/SSA-1 | 1811 | 1 | 11 | 332
Interview/MCS | 1,438,058 | 1 | 10 | 239,676
Medicare Only SSA-1 Paper form (abbreviate) | 173 | 1 | 7 | 20
Medicare Only—Interview/MCS | 204,380 | 1 | 7 | 23,844
Totals | 1,644,422 |  |  | 263,872
SSA-2
Paper version/SSA-2 | 972 | 1 | 15 | 243
Interview/MCS | 447,610 | 1 | 14 | 104,442
Totals | 448,582 |  |  | 104,685
SSA-16
Paper version/SSA-16 | 40,346 | 1 | 20 | 13,449
Interview/MCS | 1,159,121 | 1 | 19 | 367,055
Totals | 1,199,467 |  |  | 380,504
iClaim
iClaim 3rd Party | 350,519 | 1 | 15 | 87,630
iClaim Applicant after 3rd Party Completion | 350,519 | 1 | 5 | 29,210
First Party iClaim—Domestic Applicant | 2,283,301 | 1 | 15 | 570,825
First Party iClaim—Foreign Applicant | 11,373 | 1 | 18 | 3,412
Medicare-only iClaim | 797,709 | 1 | 10 | 132,952
Totals | 3,793,421 |  |  | 824,029
iAppointment Burden Information
iAppointment | 17,621 | 1 | 10 | 2,937
Grand Total | 7,103,513 |  |  | 1,576,027

4. Medical Source Statement of Ability To Do Work Related Activities (Physical and Mental)—20 CFR 404.1512-404.1513, 416.912-416.913, 404.1517, and 416.917—0960-0662. In some instances when a claimant appeals a denied disability claim, SSA may ask the claimant to have a consultative examination, at the agency's expense, if the claimant's medical sources cannot or will not give the agency sufficient evidence to determine whether the claimant is disabled. The medical providers who perform these consultative examinations provide a statement about the claimant's state of disability. Specifically, these medical source statements determine the work-related capabilities of these claimants. SSA collects the medical data on the HA-1151 and HA-1152 to assess the work-related physical and mental capabilities of claimants who appeal SSA's previous determination on their issue of disability. The respondents are medical sources who provide reports based either on existing medical evidence or on consultative examinations.

Type of Request: Revision of an OMB-approved information collection.

Modality of completion | Number of respondents | Frequency of response | Average burden per response (minutes) | Estimated total annual burden (hours)
HA-1151 | 5,000 | 30 | 15 | 37,500
HA-1152 | 5,000 | 30 | 15 | 37,500
Totals | 10,000 |  |  | 75,000

5. Social Security's Public Credentialing and Authentication Process—20 CFR 401.45 and 402—0960-0789.

Background

Authentication is the foundation for secure, online transactions. Identity authentication is the process of determining, with confidence, that someone is who he or she claims to be during a remote, automated session. It comprises three distinct factors: something you know; something you have; and something you are. Single-factor authentication uses one of the factors, and multi-factor authentication uses two or more of the factors.

SSA's Public Credentialing and Authentication Process

SSA offers consistent authentication across SSA's secured online services. We allow our users to request and maintain only one User ID, consisting of a self-selected username and password, to access multiple Social Security electronic services. Designed in accordance with the OMB Memorandum M-04-04 and the National Institute of Standards and Technology (NIST) Special Publication 800-63, this process provides the means of authenticating users of our secured electronic services and streamlines access to those services.

SSA's public credentialing and authentication process:

• Issues a single User ID to anyone who wants to do business with the agency and meets the eligibility criteria;

• Partners with an external Identity Services Provider (ISP) to help us verify the identity of our online customers;

• Complies with relevant standards;

• Offers access to some of SSA's heaviest, but more sensitive, workloads online while providing a high level of confidence in the identity of the person requesting access to these services;

• Offers an in-person process for those who are uncomfortable with or unable to use the Internet process;

• Balances security with ease of use; and

• Provides a user-friendly way for the public to conduct extended business with us online instead of visiting local servicing offices or requesting information over the phone. Individuals have real-time access to their Social Security information in a safe and secure web environment.

Public Credentialing and Authentication Process Features

We collect and maintain the users' personally identifiable information (PII) in our Central Repository of Electronic Authentication Data Master File Privacy Act system of records, which we published in the Federal Register (75 FR 79065). The PII may include the users' name; address; date of birth; Social Security number (SSN); phone number; and other types of identity information [e.g., address information of persons from the W-2 and Schedule Self Employed forms we receive electronically for our programmatic purposes as permitted by 26 U.S.C. 6103(l)(1)(A)]. We may also collect knowledge-based authentication data, which is information users establish with us or that we already maintain in our existing Privacy Act systems of records.

We retain the data necessary to administer and maintain our e-Authentication infrastructure. This includes management and profile information, such as blocked accounts; failed access data; effective date of passwords; and other data allowing us to evaluate the system's effectiveness. The data we maintain also may include archived transaction data and historical data.

We use the information from this collection to identity proof and authenticate our users online, and to allow them access to their personal information from our records. We also use this information to provide second factor authentication. We are committed to expanding and improving this process so we can grant access to additional online services in the future.

Offering online services is not only an important part of meeting SSA's goals, but is vital to good public service. In increasing numbers, the public expects to conduct complex business over the Internet. Ensuring SSA's online services are both secure and user friendly is our priority.

With the limited data we have, it is difficult for SSA to meet the OMB and NIST authentication guidelines for identity proofing the public. Therefore, we awarded a competitively bid contract to an ISP, Equifax, to help us verify the identity of our online customers. We use this ISP, in addition to our other authentication methods, to help us prove, or verify, the identity of our customers when they are completing online or electronic transactions with us.

Social Security's Authentication Strategy

We remain committed to enhancing our online services using authentication processes that balance usability and security. We will continue to research and develop new authentication tools while monitoring the emerging threats. The following are key components of our authentication strategy:

• Enrollment and Identity Verification—Individuals who meet the following eligibility requirements may enroll:

○ Must have a valid email address;

○ Must have a valid SSN;

○ Must have a domestic address of record (includes military addresses); and

○ Must be at least 18 years of age.

We collect identifying data and use SSA and ISP records to verify an individual's identity. Individuals have the option of obtaining an enhanced, stronger, User ID by providing certain financial information (e.g., Medicare wages, self-employed earnings, or the last eight digits of a credit card number) for verification. We also ask individuals to answer out-of-wallet questions so we can further verify their identities. Individuals who are unable to complete the process online can present identification at a field office to obtain a User ID.

• Establishing the User Profile—The individual self-selects a username and password, both of which can be of variable length and alphanumeric. We provide a password strength indicator to help the individual select a strong password. We also ask the individual to choose challenge questions for use in restoring a lost or forgotten username or password.

• Provide a Second Factor—We ask the individual to provide a text message enabled cell phone number or an email address. We consider the cell phone number or email address the second factor of authentication. We send a security code to the individual's selected second factor. We require the individual to confirm its receipt by entering the security code online. Subsequently, each time the individual attempts to sign in to his or her online account, we will also send a message with a one-time security code to the individual's selected second factor. The individual must enter the security code along with his or her username and password. The code is valid for only 10 minutes. If the individual does not enter the code within 10 minutes, the code expires, and the individual must request another code.

• Enhancing the User ID—If individuals opt to enhance or upgrade their User IDs, they must provide certain financial information for verification. We mail a one time-use upgrade code to the individual's verified residential address. When the individual receives the upgrade code in the mail, he or she can enter this code online to enhance the security of the account. With extra security, we continue to require the individuals to sing in using their username, password, and a one time security code we send to their second factor email address or cell phone number (whichever the users listed in their account).

• Sign in and Use—Our authentication process provides an individual with a User ID for access to our sensitive online Social Security services. Second factor authentication requires the individual to sign in with a username, password, and a one-time security code sent to the individual's selected second factor. SSA expanded its existing capabilities to require second factor authentication for every online sign in. We also allow for maintenance of the second factor options. An individual who forgets the password can reset it automatically without contacting SSA.

Social Security's Enrollment Process

The enrollment process is a one-time only activity. SSA requires the individuals to agree to the “Terms of Service” detailed on our Web site before we allow them to begin the enrollment process. The “Terms of Service” inform the individuals what we will and will not do with their personal information, and the privacy and security protections we provide on all data we collect. These terms also detail the consequences of misusing this service.

To verify the individual's identity, we ask the individual to give us minimal personal information, which may include:

• Name;

• SSN;

• Date of birth;

• Address—mailing and residential;

• Telephone number;

• Email address;

• Financial information;

• Cell phone number; and

• Selecting and answering password reset questions.

We send a subset of this information to the ISP, who then generates a series of out-of-wallet questions back to the individual. The individual must answer all or most of the questions correctly before continuing in the process. The exact questions generated are unique to each individual.

This collection of information, or a subset of it, is mandatory for respondents who want to do business with SSA via the Internet. We collect this information via the Internet, on SSA's public-facing Web site. We also offer an in-person identification verification process for individuals who cannot, or are not willing, to register online. For this process, the individual must go to a local SSA field office and provide identifying information. We do not ask for financial information with the in-person process.

We only collect the identity verification information one time, when the individual registers for a credential. We ask for the User ID (username and password) every time an individual signs in to our automated services. If individuals opt for the enhanced or upgraded account, they also receive a text message on their cell phones (this serves as the second factor for authentication) each time they sign in. The respondents are individuals who choose to use the Internet or Automated Telephone Response System to conduct business with SSA.

Type of Request: Revision of an OMB-approved information collection.

Modality of completion | Number of respondents | Frequency of response | Average burden per response (minutes) | Estimated total annual burden (hours)
Internet Requestors | 52,698,441 | 1 | 8 | 7,026,459
In-Person (Intranet) Requestors | 3,407,319 | 1 | 8 | 454,309
Totals | 56,105,760 |  |  | 7,480,768

II. SSA submitted the information collections below to OMB for clearance. Your comments regarding these information collections would be most useful if OMB and SSA receive them 30 days from the date of this publication. To be sure we consider your comments, we must receive them no later than June 12, 2017. Individuals can obtain copies of the OMB clearance packages by writing to OR.Reports.Clearance@ssa.gov.

1. Marriage Certification—20 CFR 404.725—0960-0009. Sections 202(b) and 202(c) of the Act stipulate that every spouse of an individual entitled to Old Age, Survivors, and Disability Insurance (OASDI) benefits is entitled to a spouse benefit if the wife or husband, in addition to meeting the entitlement requirements, meets the relationship criteria in Section 216(h)(1)(A) and (B) of the Act. SSA uses Form SSA-3 to determine if a spouse claimant has the necessary relationship to the Social Security number holder (i.e., the worker) to qualify for the worker's OASDI benefits. The respondents are applicants for spouse's OASDI benefits.

Type of Request: Revision of an OMB-approved information collection.

Modality of completion | Number of respondents | Frequency of response | Average burden per response (minutes) | Estimated total annual burden (hours)
SSA-3 | 180,000 | 1 | 5 | 15,000

2. Representative Payee Report-Adult, Representative Payee Report-Child, Representative Payee Report-Organizational Representative Payees—20 CFR 404.635, 404.2035, 404.2065, and 416.665—0960-0068. When SSA determines it is not in an OASDI or SSI recipient's best interest to receive Social Security payments directly, the agency will designate a representative payee for the recipient. The representative payee can be: (1) A family member; (2) a non-family member who is a private citizen and is acquainted with the beneficiary; (3) an organization; (4) a state or local government agency; or (5) a business. In the capacity of representative payee, the person or organization receives the SSA recipient's payments directly and manages these payments. As part of its stewardship mandate, SSA must ensure the representative payees are properly using the payments they receive for the recipients they represent. The agency annually collects the information necessary to make this assessment using the SSA-623, Representative Payee Report-Adult; SSA-6230, Representative Payee Report-Child; SSA-6234, Representative Payee Report-Organizational Representative Payees; and through the electronic internet application Internet Representative Payee Accounting (iRPA). The respondents are representative payees of OASDI and SSI recipients.

Type of Request: Revision of an OMB-approved information collection.

Modality of completion | Number of respondents | Frequency of response | Average burden per response (minutes) | Estimated total annual burden (hours)
SSA-623 | 2,812,662 | 1 | 15 | 703,166
SSA-6230 | 2,968,986 | 1 | 15 | 742,247
SSA-6234 | 719,684 | 1 | 15 | 179,921
iRPA* | 650,195 | 1 | 15 | 162,549
Totals | 7,151,527 |  |  | 1,787,883
* One Internet platform encompasses all three paper forms.

3. Annual Earnings Test Direct Mail Follow-Up Program Notices—20 CFR 404.452-404.455—0960-0369. SSA developed the Annual Earnings Test Direct Mail Follow-up Program to improve beneficiary reporting on work and earnings during the year and earnings information at the end of the year. SSA may reduce benefits payable under the Act when an individual has wages or self-employment income exceeding the annual exempt amount. SSA identifies beneficiaries likely to receive more than the annual exempt amount, and requests more frequent estimates of earnings from them. When applicable, SSA also requests a future year estimate to reduce overpayments due to earnings. SSA sends letters (SSA-L9778, SSA-L9779, SSA-L9781, SSA-L9784, SSA-L9785, and SSA-L9790) to beneficiaries requesting earnings information the month prior to their attainment of full retirement age. We send each beneficiary a tailored letter that includes relevant earnings data from SSA records. The Annual Earnings Test Direct Mail Follow-up Program helps to ensure Social Security payments are correct, and enables us to prevent earnings-related overpayments, and avoid erroneous withholding. The respondents are working Social Security beneficiaries with earnings over the exempt amount.

Type of Request: Revision of an OMB-approved information collection.

Modality of completion | Number of respondents | Frequency of response | Average burden per response (minutes) | Estimated total annual burden (hours)
SSA-L9778 | 42,630 | 1 | 10 | 7,105
SSA-L9779 | 158,865 | 1 | 10 | 26,478
SSA-L9781 | 472,437 | 1 | 10 | 78,740
SSA-L9784 | 1,270 | 1 | 10 | 212
SSA-L9785 | 15,870 | 1 | 10 | 2,645
SSA-L9790 | 45,000 | 1 | 10 | 7,500
Totals | 736,072 |  |  | 122,680

4. Letter to Landlord Requesting Rental Information—20 CFR 416.1130(b)—0960-0454. SSA uses Form SSA-L5061 to obtain rental subsidy information, which enables SSA to determine and verify an income value for such subsidies. SSA uses this income value as part of determining eligibility for SSI and the correct amount of SSI payable to the claimant. SSA bases an individual's eligibility for SSI payments, in part, on the amount of countable income the individual receives. Income includes in-kind support and maintenance in the form of room or rent, such as a subsidized rental arrangement. SSA requires claimants to assist in obtaining this information to prevent a delay or overpayment with their SSI payments. We collect this information only if the SSI applicant or recipient is the parent or child of the landlord (respondent). For most respondents, we collect this information once per year or less, via telephone or face-to-face personal interview. The claims representative records the information in our Modernized SSI Claims System (MSSICS), and we require verbal attestation in lieu of a wet signature. However, if the claims representative is unable to contact the respondent via the telephone or face-to-face, we print and mail a paper form to the respondent for completion. The respondent completes, signs, and returns the form to the claims representative. Upon receipt, the claims representative documents the information in MSSICS or, for non-MSSICS cases, faxes the form into the appropriate electronic folder and shreds the paper form. The respondents are landlords related to the SSI beneficiaries as a parent or child.

Type of Request: Revision of an OMB-approved information collection.

Modality of completion | Number of respondents | Frequency of response | Average burden per response (minutes) | Estimated total annual burden (hours)
SSA-L5061 | 72,000 | 1 | 10 | 12,000

5. Request for Social Security Earnings Information—20 CFR 401.100 and 404.810—0960-0525. The Act permits wage earners, or their authorized representatives, to request Social Security earnings information from SSA using Form SSA-7050-F4. SSA uses the information the respondent provides on Form SSA-7050-F4 to verify the wage earner has: (1) Earnings; (2) the right to access the correct Social Security Record; and (3) the right to request the earnings statement. If we verify all three items, SSA produces an Itemized Statement of Earnings (Form SSA-1826) and sends it to the requestor. Respondents are wage earners and their authorized representatives who are requesting Itemized Statement of Earnings records.

Type of Request: Revision of an OMB-approved information collection.

Modality of completion | Number of respondents | Frequency of response | Average burden per response (minutes) | Estimated total annual burden (hours)
SSA-7050-F4 | 66,800 | 1 | 11 | 12,247

Cost Burden:

Type of respondent | Annual cost
Non-Certified Respondent | $2,211,105
Certified Respondent | 1,601,656
Total | $3,812,761

6. Request for Evidence from Doctor and Request for Evidence from Hospital—20 CFR 404 Subpart P and 20 CFR 416 Subpart I—0960-0722. Sections 223(d)(5) and 1614(a)(3)(H)(i) of the Act require claimants to furnish medical evidence of their disability when filing a disability claim. SSA uses Forms HA-66 and HA-67 to request evidence from medical sources, which claimants identify as having information relative to their impairments, or ability to do work-related activities. In addition to accepting manual paper responses, SSA sends a barcode with the HA-66 and HA-67, allowing respondents to fax the information directly into the electronic claims folder rather than submitting it manually. SSA uses the information to determine eligibility for benefits, and to pay medical sources for furnishing the information. The respondents are medical sources, doctors, and hospitals that evaluate the claimants.

This is a correction notice: When we published the first Federal Register Notice on February 28, 2017 at 82 FR 12159, it did not include the accurate number of responses. We are correcting this by publishing the number of responses in a separate column in the chart below.

Type of Request: Revision of an OMB-approved information collection.

Modality of completion | Number of respondents | Frequency of response | Number of responses | Average burden per response (minutes) | Estimated total annual burden (hours)
HA-66—Paper Version | 3,060 | 22 | 67,320 | 15 | 16,830
HA-66—Electronic Version | 8,940 | 22 | 196,680 | 15 | 49,170
HA-67—Paper Version | 3,060 | 22 | 67,320 | 15 | 16,830
HA-67—Electronic Version | 8,940 | 22 | 196,680 | 15 | 49,170
Totals | 24,000 |  | 528,000 |  | 132,000

Dated: May 9, 2017.
Naomi R. Sipple,
Reports Clearance Officer, Social Security Administration.

[FR Doc. 2017-09687 Filed 5-11-17; 8:45 am]

BILLING CODE 4191-02-P